NATIONAL AERONAUTICS AND SPACE ADMINISTRATION

[Notice (14-129)]

Notice of Availability of Government-Owned Inventions; Available for Licensing

AGENCY: National Aeronautics and Space Administration.

ACTION: Notice of license availability.

SUMMARY: This notice is issued in accordance with 35 U.S.C. 207, 37 CFR part 404. The inventions listed below are assigned to the United States Government as represented by the Administrator of the National Aeronautics Space Administration (NASA). The inventions collectively known as SpaceCube 2.0 provide Radiation-tolerant data processing systems are made available for licensing by the NASA. The inventions are disclosed in United States Patent Number SpaceCube v. 2.0 Flight Power Card, Application No. 14/040848; SpaceCube v2.0 Micro, Application No. 14/040924; SpaceCube v2.0 Flight Processor Card, Application No. 14/041407; SpaceCube 2.0 an Advanced Hybrid On-Board Data Processor, Application No. 12/570134; SpaceCube v2.0 Processor Card, Engineering Model, Application No. 14/041510.

DATES: Requests should be made prior to December 17, 2014.

FOR FURTHER INFORMATION CONTACT: Requests for data and inventor interviews should be directed to Sia Argue, (301) 286-8994, sia.argue@nasa.gov, NASA Goddard Space Flight Center, 8800 Greenbelt Road GSFC: 504, 022:C265B, Greenbelt, MD 20771.

SUPPLEMENTARY INFORMATION: NASA-GSFC intends to move expeditiously to commercialize these patents by licensing to a cooperative research and development partner. Licensing application packages can be obtained by contacting Sia Argue and all applications and commercialization plans should be returned to NASA-GSFC by January 31, 2014. NASA-GSFC intends to ensure that its licensed inventions are broadly commercialized throughout the United States. Ideal licensees will be able to manufacture and commercialize boards that are fully tested to NASA's highest space flight specifications (IPC 6012B Class 3/A, GEVS, etc.), mount (and rework) back-to-back Virtex 5 FPGAs on a two-sided board, meet the NPR/ISO requirements for space flight board fabrication, comply with NASA-STD-8739.1 (staking, etc.), proven experience in managing a Level 1 parts program, ability to provide customer technical support, and will possess adequate facilities to conduct function and environment testing.

Enidia Santiago-Arce,
Technology Transfer Manager.

[FR Doc. 2014-28666 Filed 12-5-14; 8:45 am]

BILLING CODE 7510-13-P